MILLENNIUM CHALLENGE CORPORATION

[MCC FR 24-01]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was most recently renewed for a fourth two-year term on July 7, 2022. The MCC Advisory Council serves MCC solely in an advisory capacity and provides insights regarding innovations in infrastructure, technology, and sustainability; perceived risks and opportunities in MCC partner countries; new financing mechanisms for developing country contexts; and shared value approaches. The MCC Advisory Council provides a platform for systematic engagement with the private sector and other external stakeholders and contributes to MCC's mission—to reduce poverty through sustainable economic growth.

DATES: Thursday, April 25, 2024, from 8:30 a.m.-12:00 p.m. EDT.

ADDRESSES: The meeting will be held in a hybrid format, both in-person at 1099 14th Street NW, Suite 700, Washington, DC 20005 and via conference call.

FOR FURTHER INFORMATION CONTACT: Email MCCAdvisoryCouncil@mcc.gov, contact Bahgi Berhane at (202) 772-6362, or visit https://www.mcc.gov/about/org-unit/advisory-council for more information.

SUPPLEMENTARY INFORMATION:

Agenda. During the Spring 2024 meeting of the MCC Advisory Council, members will engage with MCC leadership. Additionally, Advisory Council members will discuss highlights from the Blended Finance/Energy and Climate subcommittee meetings and provide advice on the compact development process related to MCC's investment strategy in The Gambia.

Public Participation. The meeting will be open to the public. Members of the public may file written statement(s) before or after the meeting. If you plan to attend, please submit your name and affiliation no later than Friday, April 19, 2024, to MCCAdvisoryCouncil@mcc.gov to receive instructions on how to attend.

(Authority: Federal Advisory Committee Act, 5 U.S.C. App.)

Dated: March 25, 2024.
Peter E. Jaffe,
Vice President, General Counsel, and Corporate Secretary.

[FR Doc. 2024-06675 Filed 3-28-24; 8:45 am]

BILLING CODE 9211-03-P